ENVIRONMENTAL PROTECTION AGENCY

[ER-FRL6686-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20060541, ERP No. D-BLM-L65529-ID, Pocatello Resource Management Plan, To Provide Direction for Managing Public Lands in the Idaho Falls Districts, Pocatello Field Office (PFO), Implementation, Several Counties, ID.

Summary: EPA expressed environmental concerns about the potential for adverse impacts to water quality, aquatic habitat and wildlife, additional roads and snowmobiles and off road vehicles. The Final EIS should consider mitigation to strengthen resource protection measures. Rating EC2.

EIS No. 20060523, ERP No. DA-COE-E39050-FL, Herbert Hoover Dike Major Rehabilitation Project, To Reconstruct and Rehabilitate Reach 2 and 3, Supplement to the 1999 Draft EIS, Palm Beach, Glades and Martin Counties, FL.

Summary: EPA supports the proposed rehabilitation of the Herbert Hoover Dike; however, EPA expressed environmental concerns about potential environmental impacts. Specifically, EPA expressed environmental concerns about potential impacts to wetlands, and requested additional information regarding the wetlands mitigation proposal. Rating EC1.

EIS No. 20060512, ERP No. DS-BLM-J02038-WY, Pinedale Anticline Oil and Gas Exploration and Development Project, Updated Information on a Proposal for Long-Term Development with Year Round Drilling, Sublette County, WY.

Summary: EPA expressed environmental objections about the project: The range of alternatives analyzed; adverse impacts to air quality; and adverse impacts to wildlife. EPA recommends that the Final EIS should consider available alternatives to mitigate significant impacts to the environment. Rating EO2.

EIS No. 20070064, ERP No. DS-FHW-G40129-AR, U.S. 67 Construction, U.S. 67/167 to I-40 West/I-430 Interchange around the North Little Rock Metropolitan Area, New and Updated Information, Funding, Pulaski County, AR.

Summary: EPA does not object to the proposed project. Rating LO.

Final EISs

EIS No. 20070143, ERP No. F-WPA-J08027-SD, White Wind Farm Project, Construct a Large Utility-Scale Wind-Powered Electric Energy Generating Facility, Sherman Township, Brookings County, SD.

Summary: No formal comment letter was sent to the preparing agency.

EIS No. 20060522, ERP No. FA-COE-E39054-FL, Cape Sable Seaside Sparrow Protection, Interim Operation Plan (IOP), Additional Information Alternative 7, Providing Additional Flood Control Capacity, Implementation, Everglades National Park, Miami-Dade County, FL.

Summary: EPA supports implementation of the proposed operation plan, as it appears to be the best practicable solution to the Cape Sable Seaside Sparrow issue.

Dated: April 24, 2007.
Robert W. Hargrove,
Director, NEPA Compliance Division, Office of Federal Activities.

[FR Doc. E7-8099 Filed 4-26-07; 8:45 am]

BILLING CODE 6560-50-P